DEPARTMENT OF AGRICULTURE

Food and Nutrition Service

Agency Information Collection Activities: Special Milk Program for Children

AGENCY: Food and Nutrition Service (FNS), USDA.

ACTION: Notice.

SUMMARY: In accordance with the Paperwork Reduction Act of 1995, this notice invites the general public and other public agencies to comment on this proposed information collection. This collection is a revision of a currently approved collection to determine public participation in the Special Milk Program for Children.

DATES: Written comments must be received on or before September 5, 2025.

ADDRESSES: Comments may be sent to: Navneet Sandhu, Branch Chief, Project Demonstration Branch, Food and Nutrition Service, U.S. Department of Agriculture, 1320 Braddock Place, Room 739, Alexandria, VA 22314. Comments may also be submitted via email to Navneet.Sandhu@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Navneet Sandhu via email at Navneet.Sandhu@usda.gov or phone 703-305-2728.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: 7 CFR part 215, Special Milk Program for Children.

Form Number: FNS-10 and FNS-777 (recordkeeping only).

OMB Number: 0584-0005.

Expiration Date: September 30, 2025.

Type of Request: Revision of a currently approved collection.

Abstract: Section 3 of the Child Nutrition Act (CNA) of 1966, (42 U.S.C. 1772) authorizes the Special Milk Program (SMP). It provides for the appropriation of such sums as may be necessary to enable the Secretary of Agriculture to encourage the consumption of fluid milk by children in the United States in: (1) nonprofit schools of high school grade and under; and (2) nonprofit nursery schools, child care centers, settlement houses, summer camps, and similar nonprofit institutions devoted to the care and training of children. The SMP may operate in nonprofit schools and nonprofit childcare institutions that do not already participate in a food service program authorized under the CNA or the National School Lunch Act.

Section 10 of the CNA (42 U.S.C. 1779) requires the Secretary of Agriculture to prescribe such regulations as deemed necessary to carry out this Act and the National School Lunch Act. Pursuant to that provision, the Secretary has issued 7 CFR part 215, which sets forth policies and procedures for the administration and operation of the SMP. State and local operators of the SMP are required to meet Federal reporting and accountability requirements. This information collection is required to administer and operate this program. The Program is administered at the State, school food authority (SFA), and childcare institution levels; and operations include the submission of applications and agreements, submission and payment of claims, and maintenance of records. The reporting and recordkeeping burden associated with this revision decreased by approximately 8,103 hours relative to the previous submission, from 13,326 estimated burden hours to 5,223 estimated burden hours due to fewer State agencies participating in the SMP. The total estimated annual responses decreased by approximately 32,623 responses from 88,407 to 55,784 responses primarily due to fewer State agencies participating in the SMP. All reporting and recordkeeping requirements associated with the SMP are currently approved by the Office of Management and Budget and are in force. This is a revision of a currently approved collection.

Forms FNS-10 and FNS-777 collect information that are associated with this information collection; however, these forms, and the reporting burden associated with them, are approved under OMB Control Number 0584-0594 Food Programs Reporting System (FPRS) (expiration date September 30, 2026). The recordkeeping burden associated with these forms is covered in this collection.

Affected Public: State, Local, and Tribal Government and nonprofit institutions. Respondent groups identified include State agencies, School Food Authorities (SFAs), and childcare institutions.

Estimated Number of Respondents: 1,547 (43 State agencies, 1,504 Nonprofit Institutions).

Estimated Number of Responses per Respondent (Reporting): 1.64. Respondents either submit 1 or 24 responses, depending on the activity.

Estimated Total Annual Responses (Reporting): 2,536.

Estimated Time per Response (Reporting): .25 hours.

Estimated Total Annual Burden on Respondents (Reporting): 634 hours.

Estimated Number of Recordkeepers: 1,547 (43 State agencies, 1,504 Nonprofit Institutions).

Estimated Number of Responses per Respondent (Recordkeeping): 34.42. The number of responses per respondent range from 1 to 790, depending upon the activity.

Estimated Total Annual Records: 53,248.

Estimated Time per Response (Recordkeeping): .086 hours (approximately 5 minutes). The estimated times range from 5 to 20 minutes, depending up on the activity.

Estimated Total Annual Recordkeeping Burden: 4,589 hours.

Grand Total Estimated Reporting and Recordkeeping Burden: 5,223 hours.

Current OMB Inventory for Part 215: 13,325 hours.

Difference in Burden hours with this Renewal: −8,103 hours.

Refer to the table below for estimated total annual burden for each type of respondent:

Regulation | Burden activity | Estimated number of respondents/ recordkeepers | Estimated responses per respondent | Estimated total annual responses | Estimated hours per response | Estimated total annual hours | Previously approved under 0584-0005 | Difference due to adjustment
Reporting
State Agency
215.5(a) | SA requests funds to pay SMP claims | 43 | 24 | 1,032 | 0.25 | 258 | 324 | −66
School Food Authority/Non-Profit Child Care Institution (local site)
215.7(c) | SFA/CCI submits an application to SA to operate the SMP | 1,504 | 1 | 1,504 | 0.25 | 376 | 861 | −485
Totals |  | 1,547 | 1.64 | 2,536 | 0.25 | 634 | 1,185 | −551
Recordkeeping
State Agency
215.7 | SA maintains applications submitted by, and agreements executed with, SFAs and sponsors | 43 | 63.8 | 2,743.4 | 0.0835 | 229.07 | 345 | −115.93
215.11(b) | SA maintains documentation of compliance reviews, site visits and Program assistance | 43 | 5 | 215 | 0.167 | 35.91 | 54 | −18.10
215.11(c)(1) | SA maintains Program records as necessary to support the reimbursement payments and reports | 43 | 790 | 33,970 | 0.0835 | 2,836.50 | 4266 | −1,429.51
215.12 | SA maintains all records of action taken on disallowed claims | 43 | 2 | 86 | 0.334 | 28.72 | 36 | −7.28
215.13(a) | A-133 audit, audit plan, and management evaluations including records of the receipt and expenditure of funds under the program | 43 | 1 | 43 | 0.25 | 10.75 | 14 | −3.25
School Food Authority/Non-Profit Child Care Institution (local site)
215.7 | SFA/CCI maintains Program records to support claims | 1,504 | 10 | 15,040 | 0.0835 | 1,255.84 | 6,890 | −5,634.16
215.14a | SFA compliance with procurement requirements | 1,151 | 1 | 1,151 | 0.167 | 192.217 | 536 | −343.783
Recordkeeping Total |  | 1,547 | 34.42 | 53,248.4 | 0.086 | 4,589.00 | 12,141 | −7,552.00
Grand Total |  | 1,547 | 36.06 | 55,784.4 | 0.094 | 5,223.00 | 13,326 | −8,103.00

James C. Miller,
Administrator, Food and Nutrition Service.

[FR Doc. 2025-12569 Filed 7-3-25; 8:45 am]

BILLING CODE 3410-30-P